NATIONAL AERONAUTICS AND SPACE ADMINISTRATION

[NOTICE 08-093]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 60 calendar days from the date of this publication.

ADDRESSES: All comments should be addressed to Dr. Walter Kit, National Aeronautics and Space Administration, Washington, DC 20546-0001.

FOR FURTHER INFORMATION CONTACT: Requests for additional information or copies of the information collection instrument(s) and instructions should be directed to Dr. Walter Kit, NASA Clearance Officer, NASA Headquarters, 300 E Street, SW., JE0000, Washington, DC 20546, (202) 358-1350, Walter.Kit-1@nasa.gov.

SUPPLEMENTARY INFORMATION:

I. Abstract

NASA needs information pertaining to student experiences in science, technology, engineering, and mathematics (STEM) programs in order to conduct civil rights compliance reviews of higher education STEM programs receiving federal financial assistance from NASA, as required by NASA regulations under Title IX of the Education Amendments of 1972 (requiring NASA to conduct periodic compliance reviews of grant recipient institutions) and the Section 619 of the NASA Authorization Act of 2005 (requiring NASA to conduct at least two Title IX reviews annually of NASA grant recipient institutions).

II. Method of Collection

NASA will utilize an on-line survey tool that will allow students at institutions on which NASA is conducting Title IX compliance reviews to provide responses by e-mail.

III. Data

Title: Title IX Survey.

OMB Number: 2700-XXXX.

Type of Review: New collection.

Affected Public: Individuals or households.

Estimated Number of Respondents: 200.

Estimated Number of Responses per Respondent: 1.

Estimated Time per Response: 0.083 hour.

Estimated Total Annual Burden Hours: 17 hours.

Estimated Total Annual Cost: $0.00.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Walter Kit,
NASA Clearance Officer.

[FR Doc. E8-27697 Filed 11-20-08; 8:45 am]

BILLING CODE 7510-13-P